DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of May, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,143 & A & B; Carolace Embroidery Co., Inc., New York, NY and Ridgefield, NJ and FNC Textiles, A Subsidiary of Carolace Embroidery Co., Inc., Hope Mill, NC

TA-W-39,732; Innovative Home products, Covington, OH

TA-W-40,620; Ethyl Petroleum Additives, Natchez, MS

TA-W-40,823; Glenayre Electronics, Inc., Quincy, IL

TA-W-40,873; Genalite Corp., Jessup, PA

TA-W-40,875; Graham Tech, Inc. d/b/a Hopkins Machine and Tool, Cochraton, PA

TA-W-40,888; Carling Technologies, Carling Switch, Inc., Brownsville, TX

TA-W-40,903; Monona Wire Corp., Spring Green Div., Livingston Facility, Livingston, WI

TA-W-39,370; Security Plastics, Inc., Miami Lakes, FL

TA-W-39,834; Westvaco Corp., Flexible Packaging Plant, A Div. Of Meadwestvaco, Springfield, MA

TA-W-40,177; Autoforge, Inc., Harmonsburg, PA

TA-W-40,100; FMC Technologies, Inc., Homer City, PA

TA-W-40,838; Pannier Corp., Glenshaw, PA

TA-W-40.973; Hawthorn Missouri, Inc., Hermann, MO

TA-W-41,043; Champion Parts, Inc., Beech Creek, PA

TA-W-41,149; Steel Heddle, Inc., Greenville, SC

TA-W-41,228; Inter Tape Polyment Central Products Co, Marysville, MI

In the following cases, the investigation revealed that the criteria for eligibility have not been met for the reasons specified.

The workers firm does not produce an article as required for certification under section 222 of the Trade Act of 1974.

TA—W-41,411; Bowen Machine and Fabricating, d/b/a/ Bowen Industrial Contractors, Inc., Hurley, NM

TA-W-41,194 & A & B; J. Allan Steel 3500 Neville Road, Pittsburgh, PA and 829 Beaver Ave., Pittsburgh, PA and 16500 Rockside Road, Cleveland, OH

TA-W-41,239; Enerflex, Inc., Cedar Mountain, NC

Increased imports did not contribute importantly to worker separations at the firm.

TA-W-40,301; Faraday LLC, Siemens Building Technologies, Tecumseh, MI

TA-W-40,891; Von Hoffman Press, Inc., Owensville, MO

TA-W-40,756; MRC Bearings, SKF USA, Inc., Jamestown, NY

TA-W-41,257; J. Miller Industries, Inc., Corona, CA

TA-W-41,548; Universal Instruments Corp., Fabrications Dept, 90 Bevier Street, Binghamton, NY

TA-W-39,320; Ogemaw Forge Co., West Branch, MI

TA-W-41,308; Simmons Foods, Inc., McAlister, OK

TA-W-41,353; ITT Industries, ITT Cannon Switch Products, Eden Prairie, MN

TA-W-40,657; Agilent Technologies, Network Products Div., Fort Collins, CO

TA-W-40,976; Abitibi Consolidated, Donohue Industries, Inc., Lufkin Div., Lufkin, TX

The investigation revealed that criteria (2) has not been met. Sales or production did not decline during the relevant period as required for certification.

TA-W-41,006; Schlumberger Wireline and Schlumberger Dowell, Williston, ND

TA-W-40,797; The Hazan Group, Secaucus, NJ

The investigation revealed that criteria (1) has not been met. A significant number or proportion of the workers did not become totally or partially separated from employment as required for certification.

TA-W-41,332; A. Stucki Co., Pittsburgh, PA

TA-W-39,601; Minnesota Mining and Manufacturing Co., Microflex Div., Columbia, MO

Affirmative Determinations for Worker Adjustment Assistance

The following certifications have been issued; the date following the company name and location of each determination references the impact date for all workers of such determination.

TA-W-41,408; Maine Brush, LLC, Lisbon Falls, ME: April 19, 2001.

TA-W-41,227; Viracon, Inc., A Subsidiary of Apogee, Inc., Owatonna, MN: March 4, 2001.

TA-W-41,169; Fruit of The Loom, Inc., Jamestown, KY: January 21, 2001.

TA-W-41,135; Erie Forge and Steel, Inc., Erie, PA: February 25, 2001.

TA-W-40,971; M.J. Soffe Co., Bladenboro, NC: January 30, 2001.

TA-W-40,954; Shield Acquisition, LLC, Caldwell Moser Leather Co., New Albany, IN: January 17, 2001.

TA-W-40,879; Sheldahl, Inc., Northfield, MN: October 31, 2000.

TA-W-40,872; Hein-Werner Corp., Baraboo, WI: January 2, 2001.

TA-W-40,850; Newbold Corp., Rocky Mount, VA: December 13, 2000.

TA-W-40,760 & A; Sew Special, Inc., Asheboro, NC and Randleman, NC: October 30, 2000.

TA-W-40,653; Welland Chemical, Inc., Newell, PA: December 13, 2000.

TA-W-40,629; Hyde Park Foundry, A Subsidiary of Akers National Roll, Hyde Park, PA: November 15, 2000.

TA-W-40,423 & A; Wells Lamont Industry Group, Warsaw, IN and Atwood, IN: October 24, 2000.

TA-W-40,337; General Electric Quartz, Inc., Newark, OH: November 2, 2000.

TA-W-39,929; Pillowtex Corp., Hawkinsville, GA: August 13, 2000.

TA-W-41,459; Dave Goldberg, Inc., Long Island City, NY: April 18, 2001.

TA-W-41,383; Jabil Circuit, Auburn Hills, MI: March 7, 2001.

TA-W-41,350; Tractech, Inc., Warren, MI: March 7, 2001.

TA-W-41,013; Chelsea Coat, Ltd, Lynbrook, NY: February 15, 2001.

TA-W-40,902; Forecaster of Boston, Formally Known as Madeira Twin Fashions, New Bedford, MA: July 8, 2001.

TA-W-40,775; Pillowtex Corp., Tarboro Plant, Tarboro, NC: January 4, 2001.

TA-W-40,738; DW Manufacturing, d/b/a Millennium Technology Service, White City, OR: December 18, 2000.

TA-W-40,439; Communication Associates, Inc., Anniston, AL: November 27, 2000.

TA-W-39,898; Multilayer Technology, Inc., (Multek), A Subsidiary of Flextronics International, Inc., Austin, TX: August 10, 2000.

Also, pursuant to Title V of the North American Free Trade Agreement Implementation Act (Pub. L. 103-182) concerning transitional adjustment assistance hereinafter called (NAFTA-TAA) and in accordance with section 250(a), Subchaper D, Chapter 2, Title II, of the Trade Act as amended, the Department of Labor presents summaries of determinations regarding eligibility to apply for NAFTA-TAA issued during the month of May, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA--TAA-04962; Ogemaw Forge Co., West Branch, MI

NAFTA--TAA-05275; FMC Technologies, Inc., Homer City, PA

NAFTA--TAA-05301; BMI Industries, Inc., Schaumburg, IL

NAFTA--TAA-05888; Pillowtex Corp., Tarboro Plant, Tarboro, NC

NAFTA--TAA-05965; Inter Tape Polymer, Central Products Co., Marysville, MI

NAFTA--TAA-06013; Amstead Industries, Inc., American Steel Foundry-Keystone, Alliance, OH

NAFTA--TAA-06124; Holophane, A Div. Of Acuity Lighting Group, Inc., Springfield, OH

NAFTA--TAA-05022; Minnesota Mining & Manufacturing Co., Microflex Div., Columbia, MO

NAFTA--TAA-05248; Pillowtex Corp., Hawkinsville, GA

NAFTA--TAA-05454; Faraday, LLC, Siemens Building Technologies, Tecumseh, MI

NAFTA--TAA-05475; Carling Technologies/Carling Switch, Inc., Brownsville, TX

NAFTA--TAA-05578; Detroit Tool and Engineering Co., Lebanon, MO

NAFTA--TAA-05587; Glenayre Electronics, Inc., Quincy, IL

NAFTA--TAA-05619; Graham Tech, Inc., d/b/a Hopkins Machine & Tool, Cochranton, PA

NAFTA--TAA-05708; Seco/Warwick Corp., Meadville, PA

NAFTA--TAA-05719; Monona Wire Corp., Spring Green Div., Livingston Facility Livingston, WI

NAFTA--TAA-05789; Genalite Corp., Jessup, PA

NAFTA--TAA-05831; Champion Parts, Inc., Beech Creek, PA

NAFTA--TAA-05840; McCoy-Ellison, Inc., Monroe, NC

NAFTA--TAA-05905; Laclede Steel Co., Fairless Hills, PA

NAFTA--TAA-05952; Abitibi Consolidated, Donohue Industries, Inc., Lufkin Div., Lufkin, TX

NAFTA-TAA-06020; A. Stucki Co., Pittsburgh, PA

The investigation revealed that the criteria for eligibility have not been met for the reasons specified.

The investigation revealed that workers of the subject firm did not produce an article within the meaning of section 250(a) of the Trade Act, as amended.

NAFTA-TAA-05870; J. Allan Steel, 3500 Neville Rd, Pittsburgh, PA

NAFTA-TAA-05864; Westwood, LLC, A Affiliate of KSL Holdings, Inc., Marion Div., Marion, NC

NAFTA-TAA-06150; Stabilit America, Inc., Glasteel Div., Allentown, PA

Affirmative Determinations NAFTA-TAA

NAFTA-TAA-06004; Bill Levkoff, Inc., New York, NY: December 26, 2000.

NAFTA-TAA-06024; ITT Industries, ITT Cannon Switch Products, Eden Prairie, MN: March 20, 2001.

NAFTA-TAA-06033; Sanmina L.P., Cable Div., Carrollton, TX: April 2, 2001.

NAFTA-TAA-06058; Walls Industries, Cleburne, TX: March 26, 2001.

NAFTA-TAA-06064; SML Labels (USA), Inc., San Francisco, CA: April 8, 2001.

NAFTA-TAA-06068; Jabil Circuit, Auburn Hills, MI: March 12, 2001.

NAFTA-TAA-05700; Hein-Werner Corp., Baraboo, WI: January 2, 2001.

NAFTA-TAA-05739; Shield Acquisition, LLC, Caldwell Moser Leather Co., New Albany, IN: January 17, 2001.

NAFTA-TAA-05826; Fruit of The Loom, Inc., Jamestown, KY: January 21, 2001.

NAFTA-TAA-05953; Honeywell, Bendix Commercial Vehicle Systems Div., ABS Plant, Elyria, OH: March 12, 2001.

NAFTA-TAA-05966; Bristol Tank and Welding Co., Inc., Langhorne, PA: March 5, 2001.

NAFTA-TAA-05979; Erie Forge and Steel, Inc., Erie, PA: February 26, 2001.

NAFTA-TAA-06014; Welland Chemical, Inc., Newell, PA: March 19, 2001.

NAFTA-TAA-06037; The Toro Company, Irrigation Div. Including Leased Workers of Volt Temporary Services, Riverside, CA: March 26, 2001.

NAFTA-TAA-06096; Intimate Touch, New York, NY: March 21, 2001.

I hereby certify that the aforementioned determinations were issued during the month of May, 2002. Copies of these determinations are available for inspection in Room C-5311, U.S. Department of Labor, 200 Constitution Avenue, NW., Washington, DC 20210 during normal business hours or will be mailed to persons who write to the above address.

Dated: May 31, 2002.
Edward A. Tomchick,
Director, Division of Trade Adjustment Assistance.

[FR Doc. 02-14599 Filed 6-10-02; 8:45 am]

BILLING CODE 4510-30-P